DEPARTMENT OF HOMELAND SECURITY

U.S. Customs and Border Protection

[CBP Dec. 08-19]

Bonds; Approval To Use Authorized Facsimile Signatures and Seals

The use of facsimile signatures and seals on U. S. Customs and Border Protection bonds by the following corporate surety has been approved effective this date.

The Guarantee Company of North America USA Authorized facsimile signatures on file for: Jennifer E. Rome, Attorney-in-fact; Maya Mackey, Attorney-in-fact; Paul D. Amstutz, Attorney-in-fact; Janet M. Ciesko, Attorney-in-fact.

The corporate surety has provided U.S. Customs and Border Protection with a copy of the signatures to be used, a copy of the corporate seal, and a copy of the corporate resolution agreeing to be bound by the facsimile signatures and seal. This approval is without prejudice to the surety's right to affix signatures and seals manually.

Dated: June 4, 2008.
William G. Rosoff,
Chief, Entry Process and Duty Refunds Branch.

[FR Doc. E8-12957 Filed 6-9-08; 8:45 am]

BILLING CODE 9111-14-P